DEPARTMENT OF THE INTERIOR

Minerals Management Service

Agency Information Collection Activities: Submission for Office of Management and Budget (OMB) Review; Comment Request

AGENCY: Minerals Management Service (MMS), Interior.

ACTION: Notice of extension of a currently approved information collection (OMB Control Number 1010-0048).

SUMMARY: To comply with the Paperwork Reduction Act (PRA) of 1995 (44 U.S.C. 3501, et seq.), we are notifying you that we have submitted the information collection request (ICR) discussed below to the OMB for review and approval. We are also inviting your comments on this ICR.

DATES: Submit written comments by April 28, 2000.

ADDRESSES: You may submit comments directly to the Office of Information and Regulatory Affairs, OMB, Attention: Desk Officer for the Department of the Interior (1010-0048), 725 17th Street, NW., Washington, DC 20503. Mail or handcarry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the rulemaking record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR part 251, Geological and Geophysical (G&G) Exploration of the OCS

OMB Control Number: 1010-0048.

Abstract: The Outer Continental Shelf (OCS) Lands Act, 43 U.S.C. 1331 et seq., gives the Secretary of the Interior (Secretary) the responsibility to preserve, protect, and develop oil and gas resources in the OCS, consistent with the need to make such resources available to meet the Nation's energy needs as rapidly as possible; balance orderly energy resource development with protection of the human, marine, and coastal environments; ensure the public a fair and equitable return on the resources of the OCS; and preserve and maintain free enterprise competition.

The OCS Lands Act (43 U.S.C. 1340) also states that “any person authorized by the Secretary may conduct geological and geophysical explorations in the [O]uter Continental Shelf, which do not interfere with or endanger actual operations under any lease maintained or granted pursuant to this OCS Lands Act, and which are not unduly harmful to aquatic life in such area.” The section further requires that, permits to conduct such activities may only be issued if it is determined that the applicant is qualified; the activities are not polluting, hazardous, or unsafe; they do not interfere with other users of the area; and do not disturb a site, structure, or object of historical or archaeological significance. Applicants for permits are required to submit form MMS-327 to provide the information necessary to evaluate their qualifications.

Regulations at 30 CFR part 251 implement these statutory requirements. We use the information to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the Government for certain costs. The information is necessary to determine if the applicants for permits or filers of notices meet the qualifications specified by the OCS Lands Act. MMS uses information collected to understand the G&G characteristics of oil-and-gas bearing physiographic regions of the OCS. It aids the Secretary in obtaining a proper balance among the potentials for environmental damage, the discovery of oil and gas, and adverse impacts on affected coastal states. Information from permittees is necessary to determine the propriety and amount of reimbursement.

We will protect information from respondents considered proprietary under the Freedom of Information Act (5 U.S.C. 552) and its implementing regulations (43 CFR part 2) and under regulations at 30 CFR parts 250, 251, and 252. No items of a sensitive nature are collected. Responses are mandatory or required to obtain or retain a benefit.

The PRA provides that an agency may not conduct or sponsor, and a person is not required to respond to, a collection of information unless it displays a currently valid OMB control number. We published a Federal Register notice with the required 60-day comment period soliciting comments on this ICR on November 12, 1999 (64 FR 61659).

Frequency: On occasion, annually, or as specified in permits.

Estimated Number and Description of Respondents: Primarily, approximately 150 Federal OCS permittees or notice filers.

Estimated Annual Reporting and Recordkeeping “Hour” Burden: 8,109 burden hours, averaging approximately 54 hours per respondent. Refer to the following chart.

Citation 30 CFR 251 | Reporting and recordkeeping requirement | Number | Burden | Annual burden hours
251.4; 251.5; 251.6(c) | Apply for permits (form MMS-327) or file notices; consult with other users of the area | 150 Notices or Applications | 6 hours | 900
251.6(b); 251.7(b)(5)(iii) | Notify MMS if specific actions should occur; report archaeological resources. (No instances reported since 1982.) | 1 Notice | 1 hour | 1
251.7 | Submit information on test drilling activities under a permit; including form MMS-123 | Burden included with 30 CFR 250.201, 250.203, & form MMS-123 (1010-0049 & 1010-0044) |  | 0
251.7(c) | Enter into agreement for group participation in test drilling, including publishing summary statement; provide MMS copy of notice/list of participants. (No agreements submitted since 1989.) | 1 Agreement | 1 hour | 1
251.7(d) | Submit bond on deep stratigraphic test | Burden included under 30 CFR part 256 regs (1010-0006) |  |
251.8(a) | Request reimbursement for certain costs associated with MMS inspections. (No requests in many years. OCS Lands Act requires Government reimbursement.) | 1 Request | 1 hour | 1
251.8(b), (c) | Submit modifications to, and status/final reports on, activities conducted under a permit | 150 Respondents × 4 Reports = 600 | 8 hours | 4,800
251.9(c) | Notify MMS to relinquish a permit | 8 Notices | .5 hour | 4
251.10(c) | File appeals | Burden included with 1010-0121 |  | 0
251.11; 251.12 | Submit to MMS G&G data/information collected under a permit; including license agreements/notifications to MMS | 50 Respondents × 2 Submissions = 100 | 4 hours | 400
251.13 | Request reimbursement for certain costs associated with reproducing data/info | 50 Respondents × 2 Submissions = 100 | 20 hours | 2,000
251.14(c)(2) | Submit comments on MMS intent to disclose data/info | 1 Comment | 1 hour | 1
251.14(c)(4) | Contractor/agent submit written commitment not to sell, trade, license, or disclose data/info without MMS consent | 1 Commitment | 1 hour | 1
Total Reporting Burden |  | 963 Responses |  | 8,109

Estimated Annual Reporting and Recordkeeping “Non-Hour Cost” Burden: We have identified no cost burdens for this collection.

Comments: All comments are made a part of the public record. Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Send your comments directly to the offices listed under the addresses section of this notice. The OMB has up to 60 days to approve or disapprove the information collection but may respond after 30 days. Therefore, to ensure maximum consideration, OMB should receive public comments by April 28, 2000.

MMS Information Collection Clearance Officer: Jo Ann Lauterbach, (202) 208-7744.

Dated: February 24, 2000.
Elmer P. Danenberger,
Chief, Engineering and Operations Division.

[FR Doc. 00-7701 Filed 3-28-00; 8:45 am]

BILLING CODE 4310-MR-U